DEPARTMENT OF THE INTERIOR

National Park Service

[N6961; NPS-WASO-NAGPRA-NPS0042095; PPWOCRADN0-PCU00RP14.R50000]

Notice of Intended Repatriation: California Department of Parks and Recreation, Sacramento, CA

AGENCY: National Park Service, Interior.

ACTION: Notice.

SUMMARY: In accordance with the Native American Graves Protection and Repatriation Act (NAGPRA), the California Department of Parks and Recreation intends to repatriate certain cultural items that meet the definition of objects of cultural patrimony and that have a cultural affiliation with the Indian Tribes or Native Hawaiian organizations in this notice.

DATES: Repatriation of the cultural items in this notice may occur on or after April 1, 2026

ADDRESSES: Send additional, written requests for repatriation of the cultural items in this notice to Dr. Leslie L. Hartzell, NAGPRA Coordinator, California Department of Parks and Recreation, P.O. Box 942896, Sacramento, CA 94296-0001, email Leslie.Hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the summary or related records. The National Park Service is not responsible for the determinations in this notice.

Abstract of Information Available

A total of 140 lots of cultural items have been requested for repatriation.

The 58 lots of objects of cultural patrimony are flaked stone artifacts, groundstone artifacts, hammerstones, modified bone, organic ecofacts, petroglyph, pottery artifacts, shell bead necklace, shell beads, stone ecofacts, stone marker, and wood artifacts. Some of the cultural items are physically attached to display mounts. Between 1928 and 1979, Howard Arden Edwards and Grace Wilcox Oliver acquired the cultural items from multiple locations in southern California: Alkali Springs, Barrel Springs, Big Rock Creek, Fairmont, Tameobit (Lovejoy Springs), Moody Springs, the Palmdale area, Pinnacle Butte, and Piute Butte, in the Antelope Valley in northern Los Angeles County; Indian Meadows in the Littlerock Canyon/Littlerock Creek area in the Antelope Valley in northern Los Angeles County; the Antelope Valley in northern Los Angeles County and southeastern Kern County; the Muroc area on what is now Edwards Air Force Base, and the Rosamond area in the Antelope Valley in southeastern Kern County; the San Bernardino area in San Bernardino County; the Barstow area, the Black Mountain area, the Cronese Valley, Indian Springs in Superior Valley, and Newberry Springs in northwest San Bernardino County; and Vasquez Rocks in Agua Dulce in northern Los Angeles County. State Parks records do not indicate which items Edwards and Oliver removed from sites themselves and which items were removed by others. On June 25, 1979, Grace Wilcox Oliver transferred the cultural items to the California Department of Parks and Recreation (CDPR). (ACCN.082-309 and ACCN.498-1)

The 12 lots of objects of cultural patrimony are modified bone, soil samples, organic ecofacts, stone ecofacts, fire-affected rocks, flaked stone artifacts, groundstone artifacts, hammerstones, pottery artifacts, modified shell, shell beads, and historic items. Some of the cultural items are physically attached to display mounts. The cultural items were removed from Tameobit (Lovejoy Springs) in the Antelope Valley in northern Los Angeles County, California. Between 1928 and 1979, Howard Arden Edwards and Grace Wilcox Oliver acquired items removed from the site by an unknown individual at an unknown date. In 1954, the Archaeological Survey Association removed items from the site. In 1989, Bruce Love and Cerro Coso College removed items from the site. In 1990-1991, Bruce Love removed items from the site. On June 25, 1979, Grace Wilcox Oliver transferred the cultural items acquired by Edwards and Oliver, as well as the cultural items removed by the Archaeological Survey Association, to CDPR. On January 17, 2017, Bruce Love transferred the cultural items he removed with Cerro Coso College and on his own to CDPR . (ACCN.498-81 and ACCN.082-309)

The 22 lots of objects of cultural patrimony are bone fragments, fire-affected rocks, flaked stone artifacts, fossils, groundstone artifacts, hammerstones, historic items, organic ecofacts, pottery sherds, shell beads, soil, and stone ecofacts. Between 1998 and 2009, Rick Norwood removed the cultural items from multiple locations in Antelope Valley: Acton, south of the Antelope Valley in northern Los Angeles County; Barrel Springs, the Lancaster Area, and the Palmdale area in the Antelope Valley in northern Los Angeles County; and the Rosamond area in the Antelope Valley in southeastern Kern County. On January 23, 2009, Rick Norwood transferred the cultural items to CDPR. (ACCN.498-55)

The one lot of objects of cultural patrimony are groundstone artifacts. On an unknown date, Dana Grabb removed the cultural items from Piute Butte in the Antelope Valley in northern Los Angeles County, California. On May 15, 1997, Dana Grabb transferred the cultural items to CDPR. (ACCN.498-26)

The five lots of objects of cultural patrimony are modified bone, flaked stone artifacts, groundstone artifacts, modified shell, and shell bead. On an unknown date, Roger Robinson removed the cultural items from Barrel Springs in the Antelope Valley in northern Los Angeles County, California. In 1998, Roger Robinson transferred the cultural items to CDPR. (ACCN.498.28)

The 10 lots of objects of cultural patrimony are modified bone, faunal bone fragments, stone ecofacts, organic ecofacts, fire-affected rocks, flaked stone artifacts, groundstone artifacts, hammerstones, metal artifacts, and pottery sherds. In 1988, Bruce Love, under contract to Stanley and Lois Sevilla, removed the cultural items from Barrel Springs in the Antelope Valley in northern Los Angeles County, California. On June 1, 1998, Stanley and Lois Sevilla transferred the cultural items to CDPR. (ACCN.498-29)

The one lot of objects of cultural patrimony are groundstone artifacts. On an unknown date, Stanley Brugh removed the cultural items from Lake Hughes, south of the Antelope Valley in northern Los Angeles County, California. On February 14, 2006, Stanley Brugh transferred the cultural items to CDPR. (ACCN.498-41)

The one lot of objects of cultural patrimony are groundstone artifacts. On an unknown date, Anthony Binando's father removed the cultural items from Tameobit (Lovejoy Springs) in the Antelope Valley in northern Los Angeles County, California. On February 19, 2002, Anthony Binando transferred the cultural items to CDPR. (ACCN.498-43)

The two lots of objects of cultural patrimony are groundstone artifacts and hammerstone. At an unknown date, an unknown person removed the cultural items from the Lancaster area in the Antelope Valley in northern Los Angeles County, California. On January 15, 2008, an anonymous donor transferred the cultural items to CDPR. (ACCN.498-49)

The three lots of objects of cultural patrimony are stone ecofacts, flaked stone artifacts, and groundstone artifacts. Between the 1920s and 1940s, ancestors of Virginia M. Sitzman removed the cultural items from the Lancaster area in the Antelope Valley in northern Los Angeles County, California. On March 15, 2006, Sitzman transferred the cultural items to CDPR. (ACCN.498-50)

The four lots of objects of cultural patrimony are juniper house, organic ecofacts, flaked stone artifacts, and groundstone artifacts. In 1966, Charles Rozaire removed the cultural items from the Palmdale area in the Antelope Valley in northern Los Angeles County, California. In 1966, Rozaire transferred the cultural items to the Natural History Museum of Los Angeles County. On March 10, 1997, the Natural History Museum of Los Angeles County transferred the cultural items to CDPR. (ACCN.498-51)

The one lot of objects of cultural patrimony are flaked stone artifacts. In 2008 and 2009, California State Parks removed the cultural items are from Piute Butte in the Antelope Valley in northern Los Angeles County, California, within Antelope Valley Indian Museum State Historic Park. (ACCN.498-54) No potentially hazardous substances have been used to treat the cultural items.

The one lot of objects of cultural patrimony are groundstone artifacts. On an unknown date, Alex Littlebow removed the cultural items from the Rosamond area in the Antelope Valley in southeastern Kern County, California. On October 1, 2010, Alex Littlebow transferred the cultural items to CDPR. (ACCN.498-68)

The one lot of objects of cultural patrimony are groundstone artifacts. On an unknown date, Darline Donna Coon removed the cultural items from the Antelope Valley in northern Los Angeles County and southeastern Kern County, California. On August 2, 2013, her son Donald Orr transferred the cultural items to CDPR. (ACCN.498-73)

The one lot of objects of cultural patrimony are groundstone artifacts. In 2014, Discovery Works removed the cultural items from Leona Valley, south of the Antelope Valley in northern Los Angeles County, California. On September 25, 2014, Discovery Works transferred the cultural items to CDPR. (ACCN.498-75)

The one lot of objects of cultural patrimony are groundstone artifacts. On an unknown date, Muir Thompson removed the cultural items from Lake Hughes, south of the Antelope Valley in northern Los Angeles County, California. On June 15, 2015, Muir Thompson transferred the cultural items to CDPR. (ACCN.498-79)

The one lot of objects of cultural patrimony are groundstone artifacts. On an unknown date, Alex Littlebow removed the cultural items from the Antelope Valley in northern Los Angeles County and southeastern Kern County, California. On October 22, 2017, Alex Littlebow transferred the cultural items to CDPR. (ACCN.498-82)

The seven lots of objects of cultural patrimony are organic ecofacts, stone ecofacts, fire-affected rocks, flaked stone artifacts, groundstone artifacts, hammerstone, and bottle fragment. In 2006, ArchaeoPaleo Resource Management removed the cultural items from site CA-LAN-3681 in Agua Dulce in northern Los Angeles County, California. On December 21, 2017, ArchaeoPaleo Resource Management transferred the cultural items to CDPR. (ACCN.498-83)

The one lot of objects of cultural patrimony are flaked stone artifact. On February 20, 2016, CDPR removed the cultural items from Fairmont in the Antelope Valley in northern Los Angeles County, California, in Antelope Valley California Poppy Reserve State Natural Reserve. (ACCN.499-20)

The one lot of objects of cultural patrimony are groundstone artifact. In December 1985, CDPR staff removed the cultural items from Saddleback Butte in the Antelope Valley in northern Los Angeles County, California, in Saddleback Butte State Park. The presence of any potentially hazardous substances being used to treat the cultural items at Saddleback Butte State Park visitor center is unknown. (ACCN.568-2)

The six lots of objects of cultural patrimony are organic ecofacts, fire-affected rocks, flaked stone artifacts, groundstone artifacts, pottery artifacts, and shell beads. On an unknown date, unknown people removed the cultural items from Saddleback Butte in the Antelope Valley in northern Los Angeles County, California, Saddleback Butte State Park. The presence of any potentially hazardous substances being used to treat the cultural items at Saddleback Butte State Park visitor center is unknown. (ACCN.568-3)

Unless stated above, the presence of any potentially hazardous substances being used to treat the cultural items prior to CDPR acquiring the items is unknown. Unless state above, all of the cultural items are housed at the Antelope Valley Indian Museum. The museum was tented for termites in August 1992. There have been no other chemical treatments after that date.

Determinations

The California Department of Parks and Recreation has determined that:

• The 140 lots objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 1, 2026. If competing requests for repatriation are received, the California Department of Parks and Recreation must determine the most appropriate requestor prior to repatriation. Requests for joint repatriation of the cultural items are considered a single request and not competing requests. The California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04046 Filed 2-27-26; 8:45 am]

BILLING CODE 4312-52-P